Title 3—

The President

Proclamation 8135 of April 27, 2007

Law Day, U.S.A., 2007

By the President of the United States of America

A Proclamation

Our Nation is built upon the rule of law and guided by our founding promise of freedom, equality, and justice for all. Law Day is an opportunity to celebrate the Constitution and the laws that protect our rights and liberties and to recognize our responsibility as citizens to uphold the values of a free and just society.

Generations of Americans have served the cause of justice and shaped our legal institutions to ensure that the blessings of liberty extend to every citizen. The men and women of America's legal community have worked to defend the Constitution, protect the innocent, and secure the rights of their fellow citizens. Their efforts have helped make our Nation a shining example of justice.

America's faith in the rule of law has endured through the centuries. Today, we strive to prepare our next generation of leaders to carry on America's tradition of freedom and democracy. The theme of this year's Law Day, “Liberty Under Law: Empowering Youth, Assuring Democracy,” highlights the importance of teaching our young people about the vital role they can play in our democratic society. We all have a duty to help our youth become responsible citizens by promoting the virtues that sustain our democracy and fostering a deeper understanding and respect for our Constitution and laws. These young men and women will shape the future of our country, and their spirit and character will help promote justice, equality, and opportunity throughout our country.

The strength of our legal system requires the ongoing commitment of every citizen. As we observe Law Day, we celebrate our Nation's legal heritage and honor those who work to advance the cause of justice.

NOW, THEREFORE, I, GEORGE W. BUSH, President of the United States of America, in accordance with Public Law 87-20, as amended, do hereby proclaim May 1, 2007, as Law Day, U.S.A. I call upon all the people of the United States to observe this day with appropriate ceremonies and activities. I also call upon Government officials to display the flag of the United States in support of this national observance.

IN WITNESS WHEREOF, I have hereunto set my hand this twenty-seventh day of April, in the year of our Lord two thousand seven, and of the Independence of the United States of America the two hundred and thirty-first.

[FR Doc. 07-2183

Filed 5-1-07; 8:45 am]

Billing code 3195-01-P